GENERAL SERVICES ADMINISTRATION

41 CFR Chapters 102, 105, 300, 301, 302, 303, and 304

48 CFR Chapter 5

Unified Agenda of Federal Regulatory and Deregulatory Actions

AGENCY: General Services Administration (GSA).

ACTION: Semiannual Regulatory Agenda.

SUMMARY: This agenda announces the proposed regulatory actions that GSA plans for the next 12 months and those that were completed since the fall 2023 edition. This agenda was developed under the guidelines of Executive Orders 12866, “Regulatory Planning and Review,” Executive Order 13563, “Improving Regulation and Regulatory Review” and Executive Order 14094, “Modernizing Regulatory Review.” GSA's purpose in publishing this agenda is to allow interested persons an opportunity to participate in the rulemaking process. GSA also invites interested persons to recommend existing significant regulations for review to determine whether they should be modified or eliminated. The public may provide comments on rules via. http://www.regulations.gov.

The Unified Agenda, including previous versions, are available at www.reginfo.gov. Because publication in the Federal Register is mandated for the regulatory flexibility agendas required by the Regulatory Flexibility Act (5 U.S.C. 602), GSA's printed agenda entries include only:

(1) Rules that are in the agency's regulatory flexibility agenda, in accordance with the Regulatory Flexibility Act, because they are likely to have a significant economic impact on a substantial number of small entities; and

(2) Any rules that the agency has identified for periodic review under section 610 of the Regulatory Flexibility Act.

Printing of these entries is limited to fields that contain information required by the Regulatory Flexibility Act's agenda requirements. Additional information on these entries is available in the Unified Agenda. In addition, for fall editions of the agenda, the entire Regulatory Plan will continue to be printed in the Federal Register, as in past years, including GSA's regulatory plan.

FOR FURTHER INFORMATION CONTACT: Lois Mandell, Division Director, Regulatory Secretariat Division, 1800 F Street NW, 6th Floor, Washington, DC 20405-0001, 202-501-2735 or by email at lois.mandell@gsa.gov.

Dated: June 3, 2024.
Mehul Parakh,
Acting Associate Administrator, Office of Government-wide Policy.

General Services Administration—Proposed Rule Stage
Sequence No. | Title | Regulation Identifier No.
212 | General Services Administration Acquisition Regulation (GSAR); GSAR Case 2020-G534, Extension of Certain Telecommunication Prohibitions to Lease Acquisitions | 3090-AK29
213 | General Services Acquisition Regulation (GSAR); GSAR Case 2021-G505, Amending Prescriptions for Including FAR Provisions and Clauses in Lease Procurements | 3090-AK36
214 | General Services Administration Acquisition Regulations (GSAR); GSAR 2021-G520, Economic Price Adjustment for Deregulated Electric Supplies | 3090-AK48
215 | General Services Administration Acquisition Regulation (GSAR); GSAR Case 2021-G530, Labor Requirements for Lease Acquisitions | 3090-AK51

General Services Administration—Final Rule Stage
Sequence No. | Title | Regulation Identifier No.
216 | General Services Administration Acquisition Regulation (GSAR); GSAR Case 2020-G510, Federal Supply Schedule Economic Price Adjustment | 3090-AK20
217 | General Service Acquisition Regulation (GSAR); GSAR Case 2020-G512, System for Award Management Representation for Leases | 3090-AK22
218 | General Services Administration Acquisition Regulation (GSAR); GSAR Case 2021-G522, Contract Requirements for High-Security Leased Space | 3090-AK39
219 | General Service Acquisition Regulation (GSAR); GSAR Case 2022-G513, Updating Payments Clause | 3090-AK55

General Services Administration—Long-Term Actions
Sequence No. | Title | Regulation Identifier No.
220 | General Services Administration Acquisition Regulation (GSAR); GSAR 2021-G527, Immediate and Highest-Level Owner for High-Security Leased Space | 3090-AK44
221 | General Services Administration Acquisition Regulation (GSAR): GSAR Case 2023-G507, Additional Transactional Data Reporting Elements for Non-Federal Supply Schedule contracts. | 3090-AK71

General Services Administration—Completed Actions
Sequence No. | Title | Regulation Identifier No.
222 | General Services Administration Acquisition Regulation (GSAR); GSAR Case 2020-G511, Updated Guidance for Non-Federal Entities Access to Federal Supply Schedules | 3090-AK21
223 | General Service Acquisition Regulation (GSAR); GSAR Case 2022-G514, Standardizing Federal Supply Schedule Clause and Provision Prescriptions | 3090-AK58
224 | General Services Acquisition Regulation (GSAR): GSAR Case 2022-G517 Single-use Plastic Packaging Reduction | 3090-AK60
225 | Federal Management Regulation (FMR), FMR Case 2023-102-1, Designation of Authority and Sustainable Siting | 3090-AK69

GENERAL SERVICES ADMINISTRATION (GSA)

Proposed Rule Stage

Office of Acquisition Policy

212. General Services Administration Acquisition Regulation (GSAR); GSAR Case 2020-G534, Extension of Certain Telecommunication Prohibitions to Lease Acquisitions [3090-AK29]

Legal Authority: 40 U.S.C. 121(c); 5 U.S.C. 801; Pub. L. 115-232 sec. 889

Abstract: The General Services Administration (GSA) is proposing to amend the General Services Administration Acquisition Regulation (GSAR) to prohibit procurement from certain covered entities using covered equipment and services in lease acquisitions pursuant to section 889 of the National Defense Authorization Act (NDAA) for Fiscal Year (FY) 2019. The rule will implement the section 889 requirements in lease acquisitions by requiring inclusion of the related Federal Acquisition Regulation (FAR) provisions and clauses. This rule supports the national security priority.

Timetable:

Action | Date | FR Cite
NPRM | 11/00/24
NPRM Comment Period End | 01/00/25

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK29

213. General Services Acquisition Regulation (GSAR); GSAR Case 2021-G505, Amending Prescriptions for Including FAR Provisions and Clauses in Lease Procurements [3090-AK36]

Legal Authority: 40 U.S.C. 121(c)

Abstract: The General Services Administration (GSA) is proposing to amend the General Services Administration Acquisition Regulation (GSAR) to revise the prescriptions for FAR provisions and clauses that apply to lease solicitations and contracts. Additionally, GSA is proposing to make conforming changes to some provision and clause titles and numbers listed to align with the FAR, along with other editorial changes.

Timetable:

Action | Date | FR Cite
NPRM | 10/00/24
NPRM Comment Period End | 12/00/24

Regulatory Flexibility Analysis Required: Yes.

Agency Contact: Amy Lara, Procurement Analyst, GSA Acquisition Policy Division, General Services Administration, GSA Acquisition Policy Division, 1800 F Street NW, Washington, AZ 20405, Phone: 816 926-7172, Email: amy.lara@gsa.gov.

RIN: 3090-AK36

214. General Services Administration Acquisition Regulations (GSAR); GSAR 2021-G520, Economic Price Adjustment for Deregulated Electric Supplies [3090-AK48]

Legal Authority: 40 U.S.C. 121(c)

Abstract: The General Services Administration (GSA) is proposing to amend the General Services Administration Acquisition Regulation (GSAR) to revise internal agency approval procedures to allow the use of an economic price adjustment clause for deregulated electric supplies under fixed-price contracts. This rule will better account for regional variability in prices, portions of which are controlled by the Federal Energy Regulatory Commission under section 205 and 206 of the Federal Power Act and other regulatory bodies.

Timetable:

Action | Date | FR Cite
NPRM | 11/00/24
NPRM Comment Period End | 01/00/25

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK48

215. General Services Administration Acquisition Regulation (GSAR); GSAR Case 2021-G530, Labor Requirements for Lease Acquisitions [3090-AK51]

Legal Authority: 40 U.S.C. 121(c)

Abstract: The General Services Administration (GSA) is proposing to amend the General Services Administration Acquisition Regulation (GSAR) to extend the requirements of Executive Order 14026 (Increasing the Minimum Wage for Federal Contractors) and Department of Labor regulations (29 CFR part 23) to lease acquisitions where the Davis Bacon Act applies by requiring inclusion of related Federal Acquisition Regulation (FAR) requirements. Generally, the FAR does not apply to leasehold acquisitions of real property. However, several FAR requirements have been adopted through GSAR part 570. This rule promotes economic resilience and improves the buying power of U.S. citizens.

Timetable:

Action | Date | FR Cite
NPRM | 08/00/24
NPRM Comment Period End | 10/00/24

Regulatory Flexibility Analysis Required: Yes.

Agency Contact: Johnnie McDowell, Procurement Analyst, GSA Acquisition Policy Division, General Services Administration, 1800 F Street NW, Washington, DC 20405, Phone: 202 718-6112, Email: johnnie.mcdowell@gsa.gov.

RIN: 3090-AK51

GENERAL SERVICES ADMINISTRATION (GSA)

Final Rule Stage

Office of Acquisition Policy

216. General Services Administration Acquisition Regulation (GSAR); GSAR Case 2020-G510, Federal Supply Schedule Economic Price Adjustment [3090-AK20]

Legal Authority: 40 U.S.C. 121(c)

Abstract: The General Services Administration is amending the General Services Administration Acquisition Regulations (GSAR) to standardize and simplify the clauses for Multiple Award Schedules (Schedules) related to economic price adjustments. This rule removes government-unique limits in these clauses to better align with commercial standards and practices.

Timetable:

Action | Date | FR Cite
NPRM | 11/16/23 | 88 FR 78710
NPRM Comment Period End | 01/16/24
Final Rule | 10/00/24

Regulatory Flexibility Analysis Required: Yes.

Agency Contact: Thomas O'Linn, Senior Procurement Policy Analyst, GSA Acquisition Policy Division, General Services Administration, 1800 F Street NW, Washington, DC 20405, Phone: 202 445-0390, Email: thomas.olinn@gsa.gov.

RIN: 3090-AK20

217. General Service Acquisition Regulation (GSAR); GSAR Case 2020-G512, System for Award Management Representation for Leases [3090-AK22]

Legal Authority: 40 U.S.C. 121(c)

Abstract: The General Services Administration (GSA) is proposing to amend the General Services Administration Acquisition Regulation (GSAR) to remove the requirement for lease offerors to have an active System for Award Management (SAM) registration when submitting offers and instead allow offers up until the time of award to obtain an active SAM registration. Entities seeking Federal leases differ from the typical entities seeking Federal contracts in that common practice is to form a new entity for every new lease offer. Requiring representations from these entities prior to offer submission restricts competition. In addition, the tools in SAM typically used in the Government's evaluation of offers do not add value when evaluating lease offers.

Timetable:

Action | Date | FR Cite
NPRM | 03/27/24 | 89 FR 21230
NPRM Comment Period End | 05/28/24
Final Rule | 01/00/25

Regulatory Flexibility Analysis Required: Yes.

Agency Contact: Amy Lara, Procurement Analyst, GSA Acquisition Policy Division, General Services Administration, GSA Acquisition Policy Division, 1800 F Street NW, Washington, AZ 20405, Phone: 816 926-7172, Email: amy.lara@gsa.gov.

RIN: 3090-AK22

218. General Services Administration Acquisition Regulation (GSAR); GSAR Case 2021-G522, Contract Requirements for High-Security Leased Space [3090-AK39]

Legal Authority: 40 U.S.C. 121(c); Pub. L. 116-276

Abstract: The General Services Administration (GSA) is amending the General Services Administration Acquisition Regulation (GSAR) to incorporate contractor disclosure requirements and access limitations for high-security leased space pursuant to the Secure Federal Leases Act. Covered entities are required to identify whether the beneficial owner of a high-security leased space, including an entity involved in the financing thereof, is a foreign person or entity when first submitting a proposal and annually thereafter. This rule supports the national security priority.

Timetable:

Action | Date | FR Cite
NPRM | 12/27/21 | 86 FR 73219
NPRM Comment Period End | 02/25/22
Final Rule | 11/00/24

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK39

219. General Service Acquisition Regulation (GSAR); GSAR Case 2022-G513, Updating Payments Clause [3090-AK55]

Legal Authority: 40 U.S.C. 121(c)

Abstract: The General Services Administration (GSA) is amending the General Services Administration Acquisition Regulation (GSAR) to remove the agency supplemental clause regarding payments for non-commercial fixed price contracts for supplies or services. This payments clause provides that, in certain transactions, the Government must pay a contractor without submission of an invoice or voucher. GSA has determined that this is no longer in the best interest of the Government. This final rule will additionally amend any corresponding references to the clause.

Timetable:

Action | Date | FR Cite
NPRM | 02/28/23 | 88 FR 12641
NPRM Comment Period End | 05/01/23 |
Final Rule | 07/00/24 |

Regulatory Flexibility Analysis Required: Yes.

Agency Contact: Byron Boyer, Procurement Analyst, GSA Acquisition Policy Division, General Services Administration, 1800 F Street NW, Washington, DC 20405, Phone: 817 850-5580, Email: byron.boyer@gsa.gov.

RIN: 3090-AK55

GENERAL SERVICES ADMINISTRATION (GSA)

Long-Term Actions

Office of Acquisition Policy

220. General Services Administration Acquisition Regulation (GSAR); GSAR 2021-G527, Immediate and Highest-Level Owner for High-Security Leased Space [3090-AK44]

Legal Authority: 40 U.S.C. 121(c)

Abstract: GSA is amending the General Services Administration Acquisition Regulation (GSAR) to implement certain requirements outlined in the Secure Federal LEASEs Act (Pub. L. 116-276). The Act addresses the risks of foreign ownership of Government-leased real estate and requires the disclosure of ownership information for high-security space leased to accommodate a Federal agency. This rule supports the national security priority.

Timetable:

Action | Date | FR Cite
Interim Final Rule Effective | 06/30/21 |
Interim Final Rule | 07/01/21 | 86 FR 34966
Interim Final Rule Comment Period End | 08/30/21 |
Final Rule | 06/00/25 |

Regulatory Flexibility Analysis Required: Yes.

Agency Contact: Stephen Carroll, Procurement Analyst, GSA Acquisition Policy Division, General Services Administration, 1800 F Street NW, Washington, DC 20405, Phone: 817 253-7858, Email: stephen.carroll@gsa.gov.

RIN: 3090-AK44

221. General Services Administration Acquisition Regulation (GSAR): GSAR Case 2023-G507, Additional Transactional Data Reporting Elements for Non-Federal Supply Schedule Contracts [3090-AK71]

Legal Authority: 40 U.S.C. 121(c)

Abstract: The General Services Administration (GSA) is proposing to amend the General Services Administration Acquisition Regulation (GSAR) to update and bring certain reporting elements into conformance with current business practices. The reporting elements would apply to solicitations and contracts for GSA-awarded indefinite-delivery indefinite-quantity (IDIQ), Governmentwide acquisition contracts (GWACs), and multi-agency contracts (MACs).

Timetable:

Action | Date | FR Cite
NPRM | 06/00/25 |
NPRM Comment Period End | 08/00/25 |

Regulatory Flexibility Analysis Required: Yes.

Agency Contact: Thomas O'Linn, Senior Procurement Policy Analyst, GSA Acquisition Policy Division, General Services Administration, 1800 F Street NW, Washington, DC 20405, Phone: 202 445-0390, Email: thomas.olinn@gsa.gov.

RIN: 3090-AK71

GENERAL SERVICES ADMINISTRATION (GSA)

Completed Actions

222. General Services Administration Acquisition Regulation (GSAR); GSAR Case 2020-G511, Updated Guidance For Non-Federal Entities Access to Federal Supply Schedules [3090-AK21]

Legal Authority: 40 U.S.C. 121(c); 40 U.S.C. 502

Abstract: GSA is issuing this final rule amending the General Services Administration Acquisition Regulation (GSAR) to update and clarify the requirements for use of Federal Supply Schedule (FSS) contracts by eligible non-Federal entities, such as State and local governments.

Completed:

Reason | Date | FR Cite
Final Rule | 02/22/24 | 89 FR 13282
Final Rule Effective | 03/25/24 |
Final Rule Correction | 04/03/24 | 89 FR 22966

Regulatory Flexibility Analysis Required: Yes.

Agency Contact: Thomas O'Linn, Phone: 202 445-0390, Email: thomas.olinn@gsa.gov

RIN: 3090-AK21

223. General Service Acquisition Regulation (GSAR); GSAR Case 2022-G514, Standardizing Federal Supply Schedule Clause and Provision Prescriptions [3090-AK58]

Legal Authority: 40 U.S.C. 121(c)

Abstract: The General Services Administration (GSA) is proposing to amend the General Services Administration Acquisition Regulation (GSAR) to standardize the identification of Federal Supply Schedule (FSS) clauses, provisions, and references. GSA will clarify the distinction between Federal Supply Schedule and the Multiple Award Schedule (MAS) Program. GSA will also clarify the applicability of FSS clauses and provisions for FSS contracts managed by GSA and the Department of Veterans Affairs.

Completed:

Reason | Date | FR Cite
Final Rule | 01/12/24 | 89 FR 2172
Correction | 01/23/24 | 89 FR 4200
Final Rule Effective | 02/12/24 |
Correction | 02/13/24 | 89 FR 10006

Regulatory Flexibility Analysis Required: Yes.

Agency Contact: Adina Torberntsson, Phone: 303 236-2677, Email: adina.torberntsson@gsa.gov.

RIN: 3090-AK58

224. General Services Acquisition Regulation (GSAR): GSAR Case 2022-G517 Single-Use Plastic Packaging Reduction [3090-AK60]

Legal Authority: 40 U.S.C. 121(c)

Abstract: The General Services Administration (GSA) is amending the General Services Administration Acquisition Regulation (GSAR) to amend the General Services Administration Acquisition Regulation (GSAR) to add a new provision and clause to identify single-use plastic free (SUP-free) packaging availability for products under the Federal Supply Schedules with the goal of reducing single-use plastic packaging. GSA sought public participation on this rule through the establishment of a GAP FAC in June of 2022. The GAP FAC was comprised of multiple stakeholders to include academics, non-profit organizations, industry, and government employees. GSA published an advance notice of proposed rulemaking in July of 2022 (including an extension in September of 2022) seeking inputs from the public pertaining to the use of plastic consumed in both packaging and shipping, as well as other single-use plastics for which the agency contracts. The feedback was considered in the development of the proposed rule. GSA also requested and received public comments in response to the proposed rule published in December of 2023. These comments were considered in the development of the final rule.

Completed:

Reason | Date | FR Cite
NPRM | 12/26/23 | 88 FR 88856
Final Rule | 06/06/24 | 89 FR 48330
Final Rule Effective | 07/08/24 |

Regulatory Flexibility Analysis Required: Yes.

Agency Contact: Adina Torberntsson, Phone: 303 236-2677, Email: adina.torberntsson@gsa.gov.

RIN: 3090-AK60

225. Federal Management Regulation (FMR), FMR Case 2023-102-1, Designation of Authority and Sustainable Siting [3090-AK69]

Legal Authority: 40 U.S.C. secs. 121(c); 40 U.S.C. secs. 581(c)(1), 584, 585, and 901 to 905; sec. 1 of Reorganization Plan No. 18 of 1950, 15 FR 3177, 64 Stat. 1270 (40 U.S.C. 301 note); 7 U.S.C. 2204b; 41 U.S.C. 3301 et seq.; 54 U.S.C. 300101 et seq.; E.O. 12072; E.O. 13006

Abstract: The General Services Administration, in furtherance of its authority to furnish space to federal agencies, is amending the Federal Management Regulation to elaborate on the factors that are advantageous to the Government when planning for location decisions. In addition, the proposed revisions are necessary to bring the current regulation into compliance with updated terminology in statute and Office of Management and Budget bulletins. The objective of these changes is to direct agencies to better integrate strategic, holistic analysis into planning for agency location decisions and to provide consistency in application of these regulations across Federal agencies and regions.

Completed:

Reason | Date | FR Cite
NPRM | 10/24/23 | 88 FR 72974
Final Rule | 04/22/24 | 89 FR 29261
Final Rule Effective | 05/22/24 |

Regulatory Flexibility Analysis Required: Yes.

Agency Contact: Chris Coneeney, Phone: 202 208-2956, Email: chris.coneeney@gsa.gov.

RIN: 3090-AK69

[FR Doc. 2024-16472 Filed 8-15-24; 8:45 am]

BILLING CODE 6820-34-P